ENVIRONMENTAL PROTECTION AGENCY

[EPA-HQ-OPPT-2003-0004; FRL-8148-3]

Access to Confidential Business Information by Computer Sciences Corporation and its Identified Subcontractors

AGENCY: Environmental Protection Agency (EPA).

ACTION: Notice.

SUMMARY: EPA has extended the contract until September 30, 2008, by which its authorized contractor, Computer Sciences Corporation (CSC) of Chantilly, VA and its subcontractors, will access information which has been submitted to EPA under all sections of the Toxic Substances Control Act (TSCA). Some of the information may be claimed or determined to be Confidential Business Information (CBI). Authority exists under the contract to extend it until September 30, 2009. If the contract is extended until September 30, 2009, CBI access will continue until that date.

DATES: Access to the confidential data will continue through September 30, 2008.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Scott M. Sherlock, TSCA Security Staff, Environmental Assistance Division (7408M), Office of Pollution Prevention and Toxics, Environmental Protection Agency, 1200 Pennsylvania Ave., NW., Washington, DC 20460-0001; telephone number: (202) 564-8257; fax number: (202) 564-8251; e-mail address: sherlock.scott@epa.gov

SUPPLEMENTARY INFORMATION:

I. General Information

A. Does this Notice Apply to Me?

This action is directed to the public in general. This action may, however, be of interest to those persons who are or who may be subject to TSCA reporting requirements. Since other entities may also be interested, the Agency has not attempted to describe all the specific entities that may be affected by this action. If you have any questions regarding the applicability of this action to a particular entity, consult the technical person listed under FOR FURTHER INFORMATION CONTACT.

B. How Can I Get Copies of this Document and Other Related Information?

1. Docket. EPA has established a docket for this action under docket identification (ID) number EPA-HQ-OPPT-2003-0004. All documents in the docket are listed in the docket's index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

II. What Action is the Agency Taking?

Previously in the >Federal Register notices of February 26, 2003 (68 FR 8894) (FRL-7293-3), August 15, 2006 (71 FR 46900) (FRL-8087-8), and also January 10, 2007 (72 FR 1224) (FRL-8110-7), EPA advised that under GSA Contract Number GS00T99ALD0204, Task Order Number T0002AJMZ39, Computer Sciences Corporation (CSC) of 15000 Conference Center Drive, Chantilly, VA, and various named subcontractors would assist the Office of Pollution Prevention and Toxics (OPPT) in computer operations and maintenance of TSCA CBI Computer Systems and Communications Network, linking CBI sites, located in Washington, DC. CSC and its subcontractors would also assist in maintaining and operating the EPA CBI computer facilities located in Research Triangle Park, NC. Access to TSCA data, including CBI, was to continue until September 30, 2007.

The contract has been extended until September 30, 2008. CSC and its subcontractors, Digital Intelligence Systems Corporation (Disys) of 4151 LaFayette Center Drive, Suite 600, Chantilly, VA; Tek Systems of 7437 Race Road S, Hanover, MD; Yoh I.T. of 1818 Market Street, Philadelphia, PA; Excel Management Systems of 691 N. High Street, 2nd Floor, Columbus, OH; Kenrob, Inc. of 44084 Riverside Parkway, Suite 125, Leesburg, VA; Paloma Systems of 7002 Evergreen Court, Annandale, VA; APPTIS of 4800 Westfields Blvd. Chantilly, VA 20151, previously PlanetGov of 14155 Newbrook Drive, Chantilly, VA; Superlative Technologies, Inc. (STI) of 8300 Greensboro Drive, Suite 425, McLean, VA; SoftPath of 1945 Cliff Valley Way NE, Suite 312, Atlanta, GA; and Apex Systems of 4400 Cox Road, Suite 200, Glen Allen, VA will continue to undertake the identified function.

It is possible that the contract will be extended a further year, until September 30, 2009. If this occurs no further notice will be provided.

EPA is issuing this notice to inform all submitters of information under all sections of TSCA that EPA may provide CSC and its identified subcontractors access to materials, including CBI materials on a need-to-know basis until September 30, 2008, unless the contract is extended again. All access to TSCA CBI under this contract will take place at EPA Headquarters and Research Triangle Park, NC facilities, the CSC facility at Research Triangle Park, NC, and also remote electronic access using secure means.

CSC and subcontractor personnel are required to sign nondisclosure agreements and will be briefed on appropriate security procedures before they are permitted access to TSCA CBI.

List of Subjects

Environmental protection, Confidential business information.

Dated: September 13, 2007.
Brion T. Cook,
Director, Information Management Division, Office of Pollution Prevention and Toxics.

[FR Doc. E7-18491 Filed 9-18-07; 8:45 am]

BILLING CODE 6560-50-S